RAILROAD RETIREMENT BOARD

20 CFR Part 200

RIN 3220-AB67

General Administration: Designation of Central and Field Organization; Internal Organization

AGENCY: Railroad Retirement Board.

ACTION: Proposed rule.

SUMMARY: The Railroad Retirement Board (Board) proposes to amend its regulations to update the members of the Executive Committee, update the responsibilities of the Executive Committee members, and update office titles.

DATES: Submit comments on or before June 26, 2017.

ADDRESSES: Address any comments concerning this proposed rule to Secretary to the Board, Railroad Retirement Board, 844 N. Rush Street, Chicago, Illinois 60611-2092.

FOR FURTHER INFORMATION CONTACT: Kelli D. Johnson, Assistant General Counsel, (312) 751-4937, TTD (312) 751-4701.

SUPPLEMENTARY INFORMATION: The Railroad Retirement Board (Board) proposes to amend its regulations in regard to the Board's policy on internal organization. The regulations to be amended are all contained in § 200.1(b). In § 200.1(b)(1) of the Board's regulations, the Board proposes to remove the language that states “the General Counsel also serves as the Senior Executive Officer,” and increase the number of members of the Executive Committee from six to seven members by adding as a member, the Director of Field Service. A description of the Director of Field Service's responsibilities will be added to § 200.1(b)(2). Finally, under § 200.1(b)(3), the office name of the Washington/Legislative Office will be changed to the Office of Legislative Affairs. Section 200.1(b)(3) of the proposed regulation will also remove the Office of Planning, and rename the Bureau of Quality Assurance to the Program Evaluation and Management Services (PEMS).

The Board, with the concurrence of the Office of Management and Budget, has determined that this is not a significant regulatory action under Executive Order 12866, as amended. Therefore, no regulatory impact analysis is required. There are no changes to the information collections associated with § 200.1(b).

List of Subjects in 20 CFR Part 200

Railroad employees, Railroad retirement, General administration.

For the reasons set out in the preamble, the Railroad Retirement Board proposes to amend title 20, chapter II, subchapter A, part 200 of the Code of Federal Regulations as follows:

PART 200—GENERAL ADMINISTRATION

1. The authority citation for part 200 continues to read as follows:

Authority: 45 U.S.C. 231f(b)(5) and 45 U.S.C. 362; § 200.4 also issued under 5 U.S.C. 552; § 200.5 also issued under 5 U.S.C. 552a; § 200.6 also issued under 5 U.S.C. 552b; and § 200.7 also issued under 31 U.S.C. 3717.

2. Section 200.1 is amended by revising paragraph (b) to read as follows:

§ 200.1 Designation of central and field organization.

* * * * *

(b) Internal organization. (1) Reporting directly to the Board Members is the seven member Executive Committee. The Executive Committee is comprised of the General Counsel, the Director of Administration, the Director of Programs, the Chief Financial Officer, the Chief Information Officer, and the Director of Field Service. The Chief Actuary is a non-voting member. The Board members will designate a member of the Executive Committee as Senior Executive Officer.

(2) The Executive Committee is responsible for the day to day operations of the agency. The Senior Executive Officer is responsible for the direction and oversight of the Executive Committee. The General Counsel is responsible for advising the Board Members on major issues, interpreting the Acts and regulations administered by the Board, drafting and analyzing legislation, representing the Board in litigation and administrative forums and planning, directing, and coordinating the work of the Office of General Counsel, the Office of Secretary to the Board, the Bureau of Hearings and Appeals, and the Office of Legislative Affairs through their respective directors. The Director of Programs is responsible for managing, coordinating, and controlling the program operations of the agency which carry out provisions of the Railroad Retirement and Railroad Unemployment Insurance Acts. The Director of Administration is responsible for managing, coordinating and controlling certain administrative operations of the Board including the Division of Acquisition Management, the Bureau of Human Resources, the Office of Public Affairs, and the Division of Real Property Management. The Chief Financial Officer is responsible for the financial management of the agency, and the Chief Information Officer is responsible for coordinating the agency's information resources management program. The Chief Actuary is responsible for the actuarial program of the Board, and for maintaining statistical and financial information. The Director of Field Services is responsible for the oversight of the agency's nationwide field offices.

(3) The Office of Equal Employment Opportunity is responsible for equal employment opportunity and affirmative employment programs.

* * * * *

By Authority of the Board.
Martha P. Rico,
Secretary to the Board.

[FR Doc. 2017-07893 Filed 4-26-17; 8:45 am]

BILLING CODE P